DEPARTMENT OF ENERGY

Federal Energy Regulatory Commission

Combined Notice of Filings

September 28, 2010.

Take notice that the Commission has received the following Natural Gas Pipeline Rate and Refund Report filings:

Docket Numbers: RP10-1334-000.

Applicants: Honeoye Storage Corporation.

Description: Honeoye Storage Corporation submits tariff filing per 154.203: Honeoye Storage Section 157 Tariff to be effective 9/23/2010.

Filed Date: 09/23/2010.

Accession Number: 20100923-5061.

Comment Date: 5 p.m. Eastern Time on Tuesday, October 5, 2010.

Docket Numbers: RP10-1335-000.

Applicants: Honeoye Storage Corporation.

Description: Honeoye Storage Corporation submits tariff filing per 154.203: Honeoye Storage Corporation, Volume No. 1A to be effective 9/23/2010.

Filed Date: 09/23/2010.

Accession Number: 20100923-5067.

Comment Date: 5 p.m. Eastern Time on Tuesday, October 5, 2010.

Docket Numbers: RP10-1336-000.

Applicants: Equitrans, L.P.

Description: Equitrans, L.P. submits tariff filing per 154.204: Form of Service Agreement Revisions & Tariff Corrections to be effective 10/23/2010.

Filed Date: 09/23/2010.

Accession Number: 20100923-5093.

Comment Date: 5 p.m. Eastern Time on Tuesday, October 5, 2010.

Docket Numbers: RP10-1337-000.

Applicants: Northern Natural Gas Company.

Description: Northern Natural Gas Company submits Tenth Revised Sheet 67 et al of its FERC Gas tariff, Fifth Revised Volume 1 effective 10/25/10.

Filed Date: 09/23/2010.

Accession Number: 20100923-0216.

Comment Date: 5 p.m. Eastern Time on Tuesday, October 5, 2010.

Docket Numbers: RP10-1338-000.

Applicants: Wyoming Interstate Company, L.L.C.

Description: Wyoming Interstate Company, L.L.C. submits tariff filing per 154.203: Diamond Mountain Compressor Station Compliance Filing to be effective 10/23/2010.

Filed Date: 09/23/2010.

Accession Number: 20100923-5119.

Comment Date: 5 p.m. Eastern Time on Tuesday, October 5, 2010.

Docket Numbers: RP10-1339-000.

Applicants: Northern Natural Gas Company.

Description: Northern Natural Gas Company submits tariff filing per 154.203: Baseline to be effective 9/24/2010.

Filed Date: 09/24/2010.

Accession Number: 20100924-5034.

Comment Date: 5 p.m. Eastern Time on Wednesday, October 6, 2010.

Docket Numbers: RP10-1340-000.

Applicants: Honeoye Storage Corporation.

Description: Honeoye Storage Corporation submits tariff filing per 154.203: Honeoye Storage Corporation, Volume No. 2 to be effective 9/24/2010.

Filed Date: 09/24/2010.

Accession Number: 20100924-5113.

Comment Date: 5 p.m. Eastern Time on Wednesday, October 6, 2010.

Docket Numbers: RP10-1341-000.

Applicants: Dauphin Island Gathering Partners.

Description: Dauphin Island Gathering Partners submits tariff filing per 154.203: Baseline Tariff to be effective 9/24/2010.

Filed Date: 09/24/2010.

Accession Number: 20100924-5119.

Comment Date: 5 p.m. Eastern Time on Wednesday, October 6, 2010.

Docket Numbers: RP10-1342-000.

Applicants: WTG Hugoton, LP.

Description: WTG Hugoton, LP submits tariff filing per 154.203: WTG Hugoton, LP FERC Gas Tariff First Revised Volume No. 1.

Filed Date: 09/27/2010.

Accession Number: 20100927-5066.

Comment Date: 5 p.m. Eastern Time on Tuesday, October 12, 2010.

Docket Numbers: RP10-1343-000.

Applicants: Energy West Development, Inc.

Description: Energy West Development, Inc. submits tariff filing per 154.202: Energy West Development, Inc. First Revised Volume No. 1 Baseline Tariff to be effective 10/27/2010.

Filed Date: 09/27/2010.

Accession Number: 20100927-5177.

Comment Date: 5 p.m. Eastern Time on Tuesday, October 12, 2010.

Docket Numbers: RP10-1344-000.

Applicants: Rockies Express Pipeline LLC.

Description: Rockies Express Pipeline LLC submits tariff filing per 154.204: Negative Rate 2010-09-27 MGE to be effective 11/1/2010.

Filed Date: 09/27/2010.

Accession Number: 20100927-5222.

Comment Date: 5 p.m. Eastern Time on Tuesday, October 12, 2010.

Docket Numbers: RP10-1345-000.

Applicants: Guardian Pipeline, L.L.C.

Description: Guardian Pipeline, L.L.C. submits tariff filing per 154.403: EPC Recovery Surcharge Adjustment to be effective 11/1/2010.

Filed Date: 09/27/2010.

Accession Number: 20100927-5262.

Comment Date: 5 p.m. Eastern Time on Tuesday, October 12, 2010.

Docket Numbers: RP10-1346-000.

Applicants: Columbia Gas Transmission, LLC.

Description: Columbia Gas Transmission, LLC submits tariff filing per 154.204: Non-Conforming Agreement—Bluestone Energy Partners to be effective 10/1/2010.

Filed Date: 09/27/2010.

Accession Number: 20100927-5265.

Comment Date: 5 p.m. Eastern Time on Tuesday, October 12, 2010.

Docket Numbers: RP10-1347-000.

Applicants: Western Gas Interstate Company.

Description: Western Gas Interstate Company submits tariff filing per 154.203: Western Gas Interstate FERC Gas Tariff Fifth Revised Volume No. 1 to be effective 9/28/2010.

Filed Date: 09/28/2010.

Accession Number: 20100928-5164.

Comment Date: 5 p.m. Eastern Time on Tuesday, October 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25085 Filed 10-5-10; 8:45 am]

BILLING CODE 6717-01-P